ENVIRONMENTAL PROTECTION AGENCY

[OPP-2002-0222; FRL-7274-3]

Notice of Receipt of Requests for Amendments to Delete Uses in Certain Pesticide Registrations; Correction

AGENCY: Environmental Protection Agency.

ACTION: Notice; Correction.

SUMMARY: EPA is correcting the “DATES” section and Unit IV of the deletion of uses document which was published in the Federal Register on August 28, 2002 (67 FR 55241) (FRL-7196-1) to correct one registration number and to add one registration number that was inadvertently omitted.

DATES: The deletions are effective on February 24, 2003, or on September 27, 2002 for products with registration numbers 000400-00490, 042056-00014, 005418-00153 and 062719-00080.

FOR FURTHER INFORMATION CONTACT: By mail: James A. Hollins, Office of Pesticide Programs (7502C), Environmental Protection Agency, 1200 Pennsylvania Ave., NW., Washington, DC 20460; telephone number: (703) 305-5761; e-mail address: hollins.james@epa.gov.

In FR Doc. 02-21677, published in the Federal Register of August 28, 2002, at page 55241, make the following corrections:

1. The “DATES” section is corrected to read as set forth above.

2. Unit IV is corrected to read as follows:

IV. Procedures for Withdrawal of Request

Registrants who choose to withdraw a request for use deletion must submit such withdrawal in writing to James A. Hollins, at the address under FOR FURTHER INFORMATION CONTACT, postmarked on or before February 24, 2003, or on or before September 27, 2002 for products with registration numbers 00400-00490, 042056-00014, 005418-00153 and 062719-00080.

Dated: September 9, 2002.
Linda Vlier Moos,
Acting Director, Information Resources and Services Division, Office of Pesticide Programs.

[FR Doc. 02-23994 Filed 9-19-02; 8:45 a.m.]

BILLING CODE 6560-50-S